DEPARTMENT OF EDUCATION

[Docket No.: ED-2022-SCC-0031]

Agency Information Collection Activities; Submission to the Office of Management and Budget for Review and Approval; Comment Request; Program for International Student Assessment 2022 (PISA 2022) Main Study

AGENCY: Institute of Educational Science (IES), Department of Education (ED).

ACTION: Notice.

SUMMARY: In accordance with the Paperwork Reduction Act of 1995, ED is proposing a revision of a currently approved information collection.

DATES: Interested persons are invited to submit comments on or before April 6, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment 2022 (PISA 2022) Main Study.

OMB Control Number: 1850-0755.

Type of Review: A revision of a currently approved information collection.

Respondents/Affected Public: Individuals and Households.

Total Estimated Number of Annual Responses: 11,728.

Total Estimated Number of Annual Burden Hours: 5,691.

Abstract: The Program for International Student Assessments (PISA) is an international assessment of 15-year-olds, which focuses on assessing students' reading, mathematics, and science literacy. PISA was first administered in 2000 and is typically conducted every three years. The United States has participated in all of the previous cycles and planned to participate in 2021 in order to track trends and to compare the performance of U.S. students with that of students in other education systems. PISA is sponsored by the Organization for Economic Cooperation and Development (OECD). In the United States, PISA is conducted by the National Center for Education Statistics (NCES), within the U.S. Department of Education. In each administration of PISA, one of the subject areas (reading, mathematics, or science literacy) is the major domain and has the broadest content coverage, while the other two subjects are the minor domains. PISA emphasizes functional skills that students have acquired as they near the end of mandatory schooling (aged 15 years), and students' knowledge and skills gained both in and out of school environments. The next administration of PISA will focus on mathematics literacy as the major domain. Reading and science literacy will also be assessed as minor domains, with additional assessment of financial literacy. In addition to the cognitive assessments described above, PISA 2022 will include questionnaires administered to school principals and assessed students. To prepare for the main study, PISA countries will conduct a field test in the spring of the year previous, primarily to evaluate newly developed assessment and questionnaire items but also to test the assessment operations. The request to conduct PISA 2021 main study recruitment and field test was approved in December 2019 (OMB# 1850-0755 v.23-24). This request: (1) Updates the package to reflect all of the changes made to respond to the global coronavirus pandemic, including delaying the field test that was previously scheduled for 2020 to 2021 and the main study data collection to 2022; (2) updates the field test recruitment materials and student video; (3) adds COVID-19 protocols; (4) replaces the state, district and school letters for the 2021 field test and 2022 main study; and (5) adds coronavirus pandemic-related items in the school and student questionnaires.

Dated: March 2, 2022.
Stephanie Valentine,
PRA Coordinator, Strategic Collections and Clearance, Governance and Strategy Division, Office of Chief Data Officer, Office of Planning, Evaluation and Policy Development.

[FR Doc. 2022-04743 Filed 3-4-22; 8:45 am]

BILLING CODE 4000-01-P